DEPARTMENT OF COMMERCE

National Oceanic and Atmospheric Administration

RIN 0648-XE279

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Recreational Advisory Panel to consider actions affecting New England fisheries in the exclusive economic zone (EEZ). Recommendations from this group will be brought to the full Council for formal consideration and action, if appropriate.

DATES: This meeting will be held on Tuesday, November 17, 2015 at 9:30 a.m.

ADDRESSES: The meeting will be held at the DoubleTree by Hilton, 50 Ferncroft Road, Danvers, MA 01923; phone: (978) 777-2500; fax: (978) 750-7959.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Advisory Panel will receive a presentation on the results of the Northeast Fisheries Science Center's (NEFSC) 2015 Groundfish Operational Assessments for Gulf of Maine cod, Gulf of Maine haddock, and other groundfish stocks of interest to the recreational fishery. The panel will also receive an overview of draft alternatives in Framework Adjustment 55 (FW 55) specifications and management measures of interest to the recreational fishery, and associated draft impact analysis. They will also review a presentation on the results from NEFSC's bioeconomic model for recreational fisheries for cod and haddock in the Gulf of Maine. Also on the agenda is to develop recommendations to the Groundfish Committee for FY 2016 Gulf of Maine cod and Gulf of Maine haddock recreational measures. The panel will also develop recommendations to the Groundfish Committee for 2016 Council priorities. Additionally, they will also discuss GARFO's Recreational Implementation Plan and develop recommendations to the Groundfish Committee. They will also discuss other business as necessary.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: October 28, 2015.
Jeffrey N. Lonergan,
Acting Deputy Director, Office of Sustainable Fisheries, National Marine Fisheries Service.

[FR Doc. 2015-27827 Filed 10-30-15; 8:45 am]

BILLING CODE 3510-22-P